DEPARTMENT OF HOMELAND SECURITY

Transportation Security Administration

Extension of Agency Information Collection Activity Under OMB Review: Aircraft Operator Security

AGENCY: Transportation Security Administration, DHS.

ACTION: Notice.

SUMMARY: This notice announces that the Transportation Security Administration (TSA) has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on November 2, 2006 (71 FR 64547).

DATES: Send your comments by May 11, 2007. A comment to OMB is most effective if OMB receives it within 30 days of publication.

ADDRESSES: Interested persons are invited to submit written comments on the proposed information collection to the Office of Information and Regulatory Affairs, Office of Management and Budget. Comments should be addressed to Nathan Lesser, Desk Officer, Department of Homeland Security/TSA, and sent via electronic mail to oira_submission@omb.eop.gov or faxed to (202) 395-6974.

FOR FURTHER INFORMATION CONTACT: Joanna Johnson, Communications Branch, Business Management Office, Operational Process and Technology, TSA-11, Transportation Security Administration, 601 South 12th Street, Arlington, VA 22202-4220; telephone (571) 227-3651; facsimile (571) 227-3588.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Aircraft Operator Security.

Type of Request: Extension of a currently approved collection.

OMB Control Number: 1652-0003.

Forms(s): NA.

Affected Public: Aircraft operators regulated by 49 CFR part 1544.

Abstract: As part of the aircraft operator security standards TSA has implemented at 49 CFR part 1544, aircraft operators are required to maintain and update, as necessary, records of compliance with the security program provisions outlined in part 1544. This regulation also requires aircraft operators to make their security programs and associated records available for inspection by TSA to ensure security, safety, and regulatory compliance. Under this regulation, aircraft operators must ensure flight crew members and employees with unescorted access authority or who perform screening functions submit to a criminal history records check (CHRC). In order to conduct a CHRC, these individuals must provide their identifying information to the aircraft operator, including fingerprints. In addition to conducting CHRCs and maintaining security program documents, these aircraft operators devote considerable time to comparing passenger names to watch lists distributed by TSA. The collection requirements associated with aircraft operator security programs remain critical in the aftermath of the terrorist attacks of September 11, 2001.

Number of Respondents: 830. The 80 respondents listed in the November 2, 2006, notice represent airlines holding a full Aircraft Operator Standard Security Program (AOSSP). These aircraft operators generally provide scheduled passenger service and tend to be larger companies. In addition to these respondents, TSA is adding 750 aircraft operators who maintain a Twelve-Five Standard Security Program (TFSSP), a Private Charter Standard Security Program (PCSSP), a specialized limited program, or a partial program as described in § 1544.101. Aircraft operators that maintain a specialized limited program typically provide on-demand air service, as well as scheduled service and tend to be smaller companies. Part 1544 also governs recordkeeping requirements for aircraft operators maintaining a full All-Cargo Standard Security Program; however, their hour burden has been separately reported under OMB control number 1652-0040. Thus, the total number of respondents claimed under this information collection is 830.

Estimated Annual Burden Hours: An estimated 1,625,000 hours annually. TSA revised the estimate published in its November 2, 2006, notice to more accurately reflect the time and effort the respondents are expending in order to comply with the security program requirement and to compare passenger names against watch lists distributed by TSA. While TSA directs aircraft operators to conduct these watch lists checks, it does not specify how they are to do so; thus, actual hour burdens for the watch lists comparison vary widely across the industry. TSA estimates 80 AOSSP aircraft operators devote approximately 1.4 million hours per year to conduct TSA watch list comparisons and report matches to TSA, perform CHRCs, and maintain their security programs. TSA estimates the 750 TFSSP, PCSSP, limited, and partial program aircraft operators devote approximately 230,250 hours per year to conduct TSA watch list comparisons and report matches to TSA, perform CHRCs, and maintain their security programs.

Issued in Arlington, Virginia, on April 4, 2007.
Fran Lozito,
Director, Business Management Office, Operational Process and Technology.

[FR Doc. E7-6763 Filed 4-10-07; 8:45 am]

BILLING CODE 9110-05-P